DEPARTMENT OF DEFENSE

Office of the Secretary

[Transmittal No. 18-0D]

Arms Sales Notification

AGENCY: Defense Security Cooperation Agency, Department of Defense.

ACTION: Arms sales notice.

SUMMARY: The Department of Defense is publishing the unclassified text of an arms sales notification.

FOR FURTHER INFORMATION CONTACT: DSCA at dsca.ncr.lmo.mbx.info@mail.mil or (703) 697-9709.

SUPPLEMENTARY INFORMATION: This 36(b)(5)(C) arms sales notification is published to fulfill the requirements of section 155 of Public Law 104-164 dated July 21, 1996. The following is a copy of a letter to the Speaker of the House of Representatives, Transmittal 18-0D.

Dated: July 26, 2018.
Shelly E. Finke,
Alternate OSD Federal Register Liaison Officer, Department of Defense.

BILLING CODE 5001-06-P

BILLING CODE 5001-06-C

Transmittal No. 18-0D

REPORT OF ENHANCEMENT OR UPGRADE OF SENSITIVITY OF TECHNOLOGY OR CAPABILITY (SEC. 36(B)(5)(C)), (AECA)

(i) Purchaser: Government of Norway

(ii) Sec. 36(b)(1), AECA Transmittal No.: 13-68

Date: December 18, 2013

Military Department: Air Force

(iii) Description: On December 18, 2013, Congress was notified by Congressional certification transmittal number 13-68, of the possible sale under Section 36(b)(1) of the Arms Export Control Act of C-130J technical, engineering and software support; software updates and patches; familiarization training for the Portable Flight Planning System (PFPS) and Joint Mission Planning System (JMPS); spare and repair parts; U.S. Government and contractor technical support services; and other related elements of logistics and program support. The estimated cost was $107 million, with no Major Defense Equipment (MDE).

This transmittal notifies the extension of non-MDE support provided to Norway's C-130J aircraft sustainment program, including additional distribution support for unclassified and classified software. Extending the sustainment case will result in an increase in non-MDE cost of $123 million. The total case value will increase to $230 million.

(iv) Significance: The addition of this funding to Norway's C-130J sustainment program represents an increase in capability over what was originally notified. The proposed sale will allow Norway to continue to effectively maintain its current fleet of C-130J fleet.

(v) Justification: This proposed sale will contribute to the foreign policy and national security of the United States by helping to improve the security of a NATO ally. Norway intends to use this technical, engineering, and software support to provide successful operation of the PFPS and JMPS. This program will increase Norway's ability to contribute to future NATO operations, support U.S. national security interests, and strengthen a critical, long-term strategic military partnership.

(vi) Date Report Delivered to Congress: July 6, 2018

[FR Doc. 2018-16308 Filed 7-30-18; 8:45 am]

BILLING CODE 5001-06-P